ENVIRONMENTAL PROTECTION AGENCY

[FRL-9782-9]

National Environmental Justice Advisory Council

AGENCY: Environmental Protection Agency (EPA).

ACTION: Request for Nominations to the National Environmental Justice Advisory Council (NEJAC).

SUMMARY: The U.S. Environmental Protection Agency (EPA) invites nominations from a diverse range of qualified candidates to be considered for appointment to its National Environmental Justice Advisory Council (NEJAC). The NEJAC was chartered to provide advice regarding broad, crosscutting issues related to environmental justice. This notice solicits nominations to fill approximately seven (7) new vacancies for terms through June 15, 2016. To maintain the representation outlined by the charter, nominees will be selected to represent: Academia (2 vacancies); grassroots community-based organizations (1 vacancy); non-governmental/environmental organizations (2 vacancies); State government agencies (1 vacancy); and indigenous community-based organizations (1 vacancy). Vacancies are anticipated to be filled by May 2013. Sources in addition to this Federal Register Notice also may be utilized in the solicitation of nominees.

DATES: Nominations should be submitted in time to arrive no later than February 22, 2013.

ADDRESSES: Submit nominations electronically with the subject line NEJAC Membership 2013 to olp.kevin@epa.gov. You also may submit nominations by mail to: Kevin Olp, NEJAC Membership Outreach Coordinator, Office of Environmental Justice, U.S. Environmental Protection Agency, 1200 Pennsylvania Avenue NW., (MC 2201A), Washington, DC 20460. Non-electronic submissions must follow the same format and contain the same information. The Office of Environmental Justice will acknowledge receipt of nominations.

FOR FURTHER INFORMATION CONTACT: Kevin Olp, Membership Outreach Coordinator for the NEJAC, U.S. EPA; telephone (202) 564-5423; fax: (202) 564-1624.

SUPPLEMENTARY INFORMATION: The NEJAC is a federal advisory committee chartered under the Federal Advisory Committee Act (FACA), Public Law 92-463. EPA established the NEJAC in 1993 to provide independent consensus advice to the EPA Administrator about a broad range of environmental issues related to environmental justice. The NEJAC conducts business in accordance with the Federal Advisory Committee Act (FACA) (5 U.S.C. App. 2) and related regulations.

The Council consists of 26 members (including a Chairperson) appointed by EPA's Administrator. Members serve as non-federal stakeholders representing: four (4) from academia, three (3) from business and industry; six (6) from community based organizations; six (6) from non-governmental/environmental organizations; four (4) from state and local governments; and three (3) from tribal governments and indigenous organizations, of which one member serves as a liaison to the National Tribal Caucus. Members are appointed for three (3)-year terms with the possibility of reappointment to a second term.

The NEJAC usually meets face-to-face twice a year, generally in the Spring and the Fall. Additionally, members may be asked to participate in teleconference meetings or serve on Work Groups to develop recommendations, advice letters, and reports to address specific policy issues. The average workload for members is approximately 5 to 8 hours per month. EPA provides reimbursement for travel and other incidental expenses associated with official government business.

Nominations: Any interested person and/or organization may nominate qualified individuals for membership. The EPA values and welcomes diversity. In an effort to obtain nominations of diverse candidates, the agency encourages nominations of women and men of all racial and ethnic groups. All nominations will be fully considered, but applicants need to be aware of the specific representation sought as outlined in the Summary above. In addition, EPA is seeking nominees with knowledge in community sustainability, public health and health disparities, climate change adaptation, land use and equitable development, environmental sociology and social science, and environmental financing.

Other criteria used to evaluate nominees will include

• The background and experience that would help members contribute to the diversity of perspectives on the committee (e.g., geographic, economic, social, cultural, educational background, professional affiliations, and other considerations

• Demonstrated experience with environmental justice and community sustainability issues at the national, state, or local level;

• Excellent interpersonal and consensus-building skills

• Ability to volunteer time to attend meetings 2-3 times a year, participate in teleconference meetings, attend listening sessions with the Administrator or other senior-level officials, develop policy recommendations to the Administrator, and prepare reports and advice letters

• Willingness to commit time to the committee and demonstrated ability to work constructively and effectively on committees

How to Submit Nominations: Any interested person or organization may nominate qualified persons to be considered for appointment to this advisory committee. Individuals are encouraged to self-nominate. Nominations can be submitted in electronic format (preferred) following the template available at http://epa.gov/environmentaljustice/nejac/index.html#Membership. To be considered, all nominations should include:

• Current contact information for the nominee, including the nominee's name, organization (and position within that organization), current business address, email address, and daytime telephone number.

• Brief Statement describing the nominees interest in serving on the NEJAC

• Résumé and a short biography (no more than 2 paragraphs) describing the professional and educational qualifications of the nominee, including a list of relevant activities, and any current or previous service on advisory committees

• Letter[s] of recommendation from a third party supporting the nomination. Letter[s] should describe how the nominee's experience and knowledge will bring value to the work of the NEJAC.

Other sources, in addition to this Federal Register notice, may also be utilized in the solicitation of nominees. To help the EPA in evaluating the effectiveness of its outreach efforts, please tell us how you learned of this opportunity.

Dated: February 13, 2013.
Victoria J. Robinson,
Designated Federal Officer, Office of Environmental Justice, U.S. EPA.

[FR Doc. 2013-03978 Filed 2-20-13; 8:45 am]

BILLING CODE P